LEGAL SERVICES CORPORATION

Sunshine Act Meeting of the Board of Directors

Time and Date: The Board of Directors of the Legal Services Corporation will meet on February 1, 2003. The meeting will begin at 9 a.m. and continue until conclusion of the Board's agenda.

Location: The Washington Court Hotel, 525 New Jersey Avenue, NW, Washington, DC.

Status of Meeting: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c) (10)] and the corresponding provisions of the Legal Services Corporation's implementing regulation [45 CFR 1622.5(h)]. A copy of the General Counsel's Certification that the closing is authorized by law will be available upon request.

Matters to be Considered:

Open Session

1. Approval of agenda.

2. Approval of the minutes of the Board's meeting of November 9, 2002.

3. Approval of the minutes of the Executive Session of the Board's meeting of November 9, 2002.

4. Approval of the Board's Special Session on Strategic Directions meeting of November 8, 2002.

5. Approval of the Board's telephonic meeting of November 25, 2002.

6. Chairman's Report.

7. Members' Report.

8. Acting Inspector General's Report.

9. President's Report.

10. Consider and act on the report of the Board's Committee on Provision for the Delivery of Legal Services.

11. Consider and act on the report of the Board's Operations and Regulations Committee.

12. Consider and act on the report of the Board's Finance Committee.

13. Consider and act on the Board's 2002 Annual Performance Reviews Committee's report on the annual evaluation of the Corporation's President and Acting Inspector General.

14. Consider and act on possible dissolution of the Board's 2002 Annual Performance Reviews Committee.

15. Consider and act on contract renewals for LSC Vice Presidents Randi Youells, Mauricio Vivero, and Victor Fortuno.

16. Consider and act on the Board's 2003 meeting schedule.

Closed Session

17. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR § 1622.2 & 1622.3

18. Consider and act on the Office of Legal Affairs' report on potential and pending litigation involving LSC.

Open Session

19. Consider and act on other business.

20. Public Comment.

CONTACT PERSON FOR INFORMATION: Victor M. Fortuno, Vice President for Legal Affairs, General Counsel & Secretary of the Corporation, at (202) 336-8800.

Special Needs: Upon request, meeting notices will be made available in alternate formats to accommodate visual and hearing impairments. Individuals who have a disability and need an accommodation to attend the meeting may notify Elizabeth S. Cushing, at (202) 336-8800.

Dated: January 23, 2003.
Victor M. Fortuno,
Vice President for Legal Affairs, General Counsel & Corporate Secretary.

[FR Doc. 03-1992 Filed 1-24-03; 8:45 am]

BILLING CODE 7050-01-P